DEPARTMENT OF ENERGY

Federal Energy Regulatory Commission

[Project No. 3754-006]

Copenhagen Associates, Copenhagen Hydro, LLC; Notice of Transfer of Exemption

1. By letter filed April 24, 2015,¹ William B. Conway, Jr., Counsel for Enel Green Power North America, Inc. (EGPNA),² informed the Commission that the exemption from licensing for the High Falls Project, FERC No. 3754, originally issued January 14, 1982,³ has been transferred to Copenhagen Hydro, LLC, an affiliate of Enel Green Power. The project is located on the Deer River in Lewis County, New York. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 18 FERC ¶ 62,018, Order Granting Exemption from Licensing of a Small Hydroelectric Project of 5 Megawatts or Less (1982).

2. Copenhagen Hydro, LLC is now the exemptee of the High Falls Project, FERC No. 3754. All correspondence should be forwarded to: Copenhagen Hydro, LLC, c/o Enel Green Power North America, Inc., Attn: General Counsel, 1 Tech Drive, Suite 220, Andover, MA 01810.

Dated: May 18, 2015.
Kimberly D. Bose
Secretary.

[FR Doc. 2015-12473 Filed 5-21-15; 8:45 am]

BILLING CODE 6717-01-P